DEPARTMENT OF HOMELAND SECURITY

Coast Guard

33 CFR Part 117

Drawbridge Operation Regulations

CFR Correction

In Title 33 of the Code of Federal Regulations, Parts 1 to 124, revised as of July 1, 2015, on page 639, in § 117.799, paragraph (j) is removed.

[FR Doc. 2016-19344 Filed 8-11-16; 8:45 am]

BILLING CODE 1505-01-D